DEPARTMENT OF LABOR

Employment and Training Administration

[TA-W-55,308 and TA-W-55,308A]

Candor Hosiery Mills, Inc., Troy, NC, and Candor Hosiery Mills, Inc., Biscoe, NC; Notice of Revised Determination on Reconsideration

By letter dated August 25, 2004, a petitioner requested administrative reconsideration regarding Alternative Trade Adjustment Assistance (ATAA). The negative determination was signed on July 29, 2004, and published in the Federal Register on August 20, 2004 (69 FR 51716).

The workers of Candor Hosiery Mills, Inc., Troy, North Carolina and Biscoe, North Carolina were certified for Trade Adjustment Assistance (TAA) on July 29, 2004.

The initial ATAA investigation determined that the skills of the subject worker group are easily transferable to other positions in the local area.

The petitioner alleges in the request for reconsideration that the skills of the workers at the subject firm are not easily transferable.

Additional investigation has determined that the workers possess skills that are not easily transferable. A significant number or proportion of the worker group are age fifty years or over. Competitive conditions within the industry are adverse.

Conclusion

After careful review of the additional facts obtained on reconsideration, I conclude that the requirements of section 246 of the Trade Act of 1974, as amended, have been met for workers at the subject firm.

In accordance with the provisions of the Act, I make the following certification:

All workers of Candor Hosiery Mills, Inc., Troy, North Carolina (TA-W-55,308) and Candor Hosiery Mills, Inc., Biscoe, North Carolina (TA-W-55,308A), who became totally or partially separated from employment on or after July 22, 2003, through July 29, 2006, are eligible to apply for adjustment assistance under section 223 of the Trade Act of 1974, and are also eligible to apply for alternative trade adjustment assistance under section 246 of the Trade Act of 1974.

Signed in Washington, DC this 10th day of September, 2004.
Elliott S. Kushner,
Certifying Officer, Division of Trade Adjustment Assistance.

[FR Doc. E4-2307 Filed 9-21-04; 8:45 am]

BILLING CODE 4510-30-P